ENVIRONMENTAL PROTECTION AGENCY

[FRL-6855-4]

Agency Information Collection Activities: Submission for OMB Review; Comment Request; Compliance Requirement for Child-Resistant Packaging

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Compliance Requirement for Child-resistant Packaging, (EPA ICR No. 0616.07, OMB No. 2070-0052). The ICR, which expires on August 30, 2000, is abstracted below and describes the nature of the information collection and its estimated cost and burden. A Federal Register document, required under 5 CFR 1320.8(d), soliciting comments on this collection of information was published on August 4, 1999 (64 FR 42365). EPA did not receive any comments on this ICR during the comment period.

DATES: Additional comments may be submitted on or before September 21, 2000.

ADDRESSES: Send comments, referencing EPA ICR No. 0616.07 and OMB Control No. 2070-0052, to the following addresses: Ms Sandy Farmer, U.S. Environmental Protection Agency, Office of Environmental Information, Collection Strategies Division (Mail Code: 2822), 1200 Pennsylvania Avenue, NW., Washington, DC 20460 And to: Office of Information and Regulatory Affairs, Office of Management and Budget (OMB), Attention: Desk Officer for EPA, 725 17th Street, NW., Washington, DC 20503.

FOR FURTHER INFORMATION CONTACT: Sandy Farmer by phone at 202-260-2740, or via e-mail at “farmer.sandy@epa.gov”, or using the address indicated below. Please refer to EPA ICR No. 0616.07 and OMB Control No. 2070-0052.

SUPPLEMENTARY INFORMATION: Title: Compliance Requirement for Child-resistant Packaging (OMB Control No. 2070-0052; EPA ICR No. 0616.07) expiring 08/31/2000. This is a request for extension of a currently approved collection.

Abstract: This ICR covers packaging information on pesticide products sold and distributed to the general public in the United States. Section 25 (c)(3) of the Federal Insecticide, Fungicide, and Rodenticide Act (FIFRA) authorizes the Environmental Protection Agency (EPA, the Agency) to establish standards for packaging of pesticide products and pesticidal devices to protect children and adults from serious illness or injury resulting from accidental ingestion or contact. The law requires that these standards are designed to be consistent with those under the Poison Prevention Packaging Act, administered by the Consumer Product Safety Commission (CPSC). The information covered by this request is collected when a pesticide registrant certifies to the Agency that the packaging for the pesticide product meets the standards of 40 CFR part 157, or requests an exemption to the requirement. Unless a pesticide product qualifies for an exemption, the product must meet certain criteria regarding toxicity and use, and it must also be sold and distributed in child-resistant packaging (CRP). Registrants must certify to the Agency that the packaging or devise meets the standards set forth by the Agency. There are no forms associated with this information collection activity. An agency may not conduct or sponsor, and a person is not required to respond to, a collection of information unless it displays a currently valid OMB control number. The OMB control numbers for EPA's regulations are listed in 40 CFR part 9 and 48 CFR Chapter 15.

Burden Statement: The incorporation of alternative methods to verify that the package meets the requirements of 40 CFR 157.32 have allowed manufacturers to use extrapolation schemes, available child-resistant protocol test data, and supporting documentation without spending the time and money to develop the data on their exact package. The burden and cost to industry also is minimized by the reference of the CPSC effectiveness standards and protocol test procedures which precludes duplicative testing for pesticidal and non-pesticidal purposes, as well as allowing for the use of CRP developed for non-pesticidal purposes.

The annual public reporting and recordkeeping burden for this collection of information is estimated to average 1.7 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Pesticide registrants subject to certification regulations in 40 CFR part 157.

Estimated Number of Respondents: 502.

Frequency of Response: As needed.

Estimated Total Annual Burden: 853.4.

Estimated Total Annualized Non-labor Burden Costs: $0.

According to the procedures prescribed in 5 CFR 1320.12, EPA has submitted this ICR to OMB for review and approval. Any comments related to the renewal of this ICR should be submitted within 30 days of this notice, as described above.

Dated: August 14, 2000.
Oscar Morales,
Director, Collection Strategies Division.

[FR Doc. 00-21379 Filed 8-21-00; 8:45 am]

BILLING CODE 6560-50-P